FEDERAL COMMUNICATIONS COMMISSION

47 CFR Part 73

[DA 03-2705; MM Docket No. 01-209; RM-10224]

Radio Broadcasting Services; Broken Bow, OK

AGENCY: Federal Communications Commission.

ACTION: Final rule.

SUMMARY: In response to a Notice of Proposed Rule Making, 66 FR 47433 (September 12, 2001), this Report and Order allots Channel 285A to Broken Bow, Oklahoma, and provides Broken Bow with its second local aural transmission service. This document also dismisses as defective a counterproposal filed by Entravision Holdings, LLC, the licensee of Station KTCY(FM), Pilot Point, Texas, proposing to, inter alia, upgrade its Channel 285C1 at Station KTCY to Channel 285C0. The coordinates for Channel 285A at Broken Bow are 34-04-41 North Latitude and 94-45-53 West Longitude. This allotment has a site restriction of 5.9 kilometers (3.7 miles) northwest of Broken Bow.

DATES: Effective October 20, 2003.

FOR FURTHER INFORMATION CONTACT: R. Barthen Gorman, Media Bureau, (202) 418-2180.

SUPPLEMENTARY INFORMATION: This is a synopsis of the Commission's Report and Order, MM Docket No. 01-209, adopted September 3, 2003, and released September 5, 2003. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone (202) 863-2893, facsimile (202) 863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Oklahoma, is amended by adding Channel 285A at Broken Bow.

Federal Communications Commission.
John A. Karousos,
Assistant Chief, Audio Division, Media Bureau.

[FR Doc. 03-23920 Filed 9-18-03; 8:45 am]

BILLING CODE 6712-01-P